DEPARTMENT OF LABOR

Office of the Secretary

Agency Information Collection Activities; Submission for OMB Review; Comment Request; On the Road to Retirement Surveys

ACTION: Notice.

SUMMARY: The Department of Labor (DOL) is submitting the Employee Benefits Security Administration (EBSA) sponsored information collection request (ICR) proposal titled, “On the Road to Retirement Surveys,” to the Office of Management and Budget (OMB) for review and approval for use in accordance with the Paperwork Reduction Act (PRA) of 1995. Public comments on the ICR are invited.

DATES: The OMB will consider all written comments that agency receives on or before May 30, 2017.

ADDRESSES: A copy of this ICR with applicable supporting documentation; including a description of the likely respondents, proposed frequency of response, and estimated total burden may be obtained free of charge from the RegInfo.gov Web site at http://www.reginfo.gov/public/do/PRAViewICR?ref_nbr=201412-1210-007 (this link will only become active on the day following publication of this notice) or by contacting Michel Smyth by telephone at 202-693-4129 (this is not a toll-free number) or by email at DOL_PRA_PUBLIC@dol.gov.

Submit comments about this request by mail to the Office of Information and Regulatory Affairs, Attn: OMB Desk Officer for DOL-EBSA, Office of Management and Budget, Room 10235, 725 17th Street NW., Washington, DC 20503; by Fax: 202-395-5806 (this is not a toll-free number); or by email: OIRA_submission@omb.eop.gov. Commenters are encouraged, but not required, to send a courtesy copy of any comments by mail or courier to the U.S. Department of Labor—OASAM, Office of the Chief Information Officer, Attn: Departmental Information Compliance Management Program, Room N1301, 200 Constitution Avenue NW., Washington, DC 20210; or by email: DOL_PRA_PUBLIC@dol.gov.

FOR FURTHER INFORMATION: Contact Michel Smyth by telephone at 202-693-4129 (this is not a toll-free number) or by email at DOL_PRA_PUBLIC@dol.gov.

SUPPLEMENTARY INFORMATION: This ICR seeks PRA authority for the “On the Road to Retirement Surveys” information collection. More specifically, the EBSA seeks to undertake a long-term research study that will track U.S. households over several years in order to collect data and answer important research questions on how retirement planning strategies and decisions evolve over time. This collection will gather data about how people make planning and financial decisions before and during retirement, especially with regard to the information that they receive and how they respond to it. The data collection effort is designed to overcome the limitations seen in existing data collection activities. Gaining insight into Americans' decision-making processes and experiences will provide policy-makers and the research community with valuable information that can be used to guide future policy and research. This ICR seeks approval for pre-test surveys, a screening survey, an initial participant survey, an advice interaction survey, and an annual participant survey. Household reports on behavior and outcomes will be combined with survey responses on planning methods, strategies and financial information received to perform a cross-sectional analysis, conditional on other respondent attributes. The EBSA intends to use data drawn from multiple waves of various surveys to analyze how behavior evolves over time. Employee Retirement Income Security Act section 513(a) authorizes this information collection. See 29 U.S.C. 1143(a).

This proposed information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid Control Number. See 5 CFR 1320.5(a) and 1320.6. For additional information, see the related notice published in the Federal Register on February 29, 2016 (81 FR 10280).

Interested parties are encouraged to send comments to the OMB, Office of Information and Regulatory Affairs at the address shown in the ADDRESSES section within thirty (30) days of publication of this notice in the Federal Register. In order to help ensure appropriate consideration, comments should mention OMB ICR Reference Number 201412-1210-007. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-EBSA.

Title of Collection: On the Road to Retirement Surveys.

OMB ICR Reference Number: 201412-1210-007.

Affected Public: Individuals or Households.

Total Estimated Number of Respondents: 10,390.

Total Estimated Annual Number of Responses: 19,607.

Total Estimated Annual Time Burden: 10,529 hours.

Total Estimated Annual Other Costs Burden: $0.

Authority: 44 U.S.C. 3507(a)(1)(D).

Dated: April 21, 2017.
Michel Smyth,
Departmental Clearance Officer.

[FR Doc. 2017-08486 Filed 4-26-17; 8:45 am]

BILLING CODE 4510-29-P